DEPARTMENT OF TRANSPORTATION

Federal Aviation Administration

14 CFR Part 71

[Docket No. FAA-2006-25831; Airspace Docket No. 06-AWA-1]

RIN 2120-AA66

Modification of the Class B Airspace Area; Atlanta, GA

AGENCY: Federal Aviation Administration (FAA), DOT.

ACTION: Final rule; request for comments.

SUMMARY: This action makes minor modifications to the floor of the Atlanta, GA, Class B airspace area in order to contain large, turbine-powered aircraft within Class B airspace during simultaneous triple instrument landing system (STILS) operations at the Hartsfield-Jackson Atlanta International Airport (ATL). In addition, this action makes two editorial changes to the Atlanta Class B airspace legal description. The FAA is taking this action to enhance safety and to prevent significant air traffic delays in the National Airspace System (NAS).

DATES: Effective 0901 UTC, October 26, 2006. Comments must be received on or before November 27, 2006. The Director of the Federal Register approves this incorporation by reference action under 1 CFR part 51, subject to the annual revision of FAA Order 7400.9 and publication of conforming amendments.

ADDRESSES: Address your comments in triplicate to the Docket Management System, U.S. Department of Transportation, Room Plaza 401, 400 Seventh Street, SW., Washington, DC 20590-0001. You must identify FAA Docket No. FAA-2006-25831 and Airspace Docket No. 06-AWA-1, at the beginning of your comments. You may also submit comments through the Internet at http://dms.dot.gov.

FOR FURTHER INFORMATION CONTACT: Paul Gallant, Airspace and Rules, Office of System Operations Airspace and AIM, Federal Aviation Administration, 800 Independence Avenue, SW., Washington, DC 20591; telephone: (202) 267-8783.

SUPPLEMENTARY INFORMATION:

Comments Invited

The FAA is adopting this final rule without prior notice and comment. The Regulatory Policies and Procedures of the Department of Transportation (DOT) (44 FR 1134; February 26, 1979) provide that to the maximum extent possible, operating administrations for the DOT should provide an opportunity for public comment on regulations issued without prior notice. Accordingly, we invite interested persons to participate in this rulemaking by submitting such written date, views, or arguments, as they may desire.

Communications should identify both docket numbers (FAA Docket No. FAA-2006-25831 and Airspace Docket No. 06-AWA-1) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2006-25831 and Airspace Docket No. 06-AWA-1.” The postcard will be date/time stamped and returned to the commenter.

Availability of Final Rule

An electronic copy of this document may be downloaded through the Internet at http://dms.dot.gov. Recently published rulemaking documents can also be accessed through the FAA's Web page at http://www.faa.gov or the Federal Register's Web page at http://www.gpoaccess.gov/fr/index.html. You may review the public docket containing the final rule and any comments received in person in the Dockets Office (see ADDRESSES section for address and phone number) between 9 a.m. and 5 p.m., Monday through Friday, except Federal holidays.

Background

On May 27, 2006, a new runway (10/28) was commissioned at ATL. The new runway allowed the introduction of simultaneous triple arrival operations at Atlanta which led to a significant decrease in arrival delays at the airport. For example, arrival delays in June 2006 were 1,349 compared to 5,401 in June 2005 (Note: triple arrivals did not actually begin at Atlanta until June 8, 2006). In July 2006, arrival delays were 257 as opposed to 8,059 delays in July 2005. August 2006 recorded 323 delays versus 7,352 in August 2005. Additionally, since the start of triple arrival procedures, ground delay programs for aircraft destined to Atlanta decreased (from 42 in July/August 2005 to zero in July/August 2006), miles-in-trail restrictions were reduced for adjacent air route traffic control centers, and on-time performance for Atlanta's customers saw significant improvement.

Initial modeling of the new procedures, conducted several years ago, indicated that STILS approaches could be accomplished within the confines of the current Class B airspace configuration. Further modeling, conducted in the fall of 2005, indicated that the volume of arrivals to the north runway (8L/26R) would have to be managed, but aircraft could still be contained within the confines of Class B airspace. However, after the actual implementation of STILS approaches in June 2006, it was found that when STILS approaches were conducted during those periods when both peak traffic volume and instrument flight rules (IFR) weather conditions existed, aircraft on approach to Runway 8L/26R would exit and reenter Class B airspace when between 25 and 20 nautical miles (NM) from the airport. Experience showed that, when STILS was in progress in IFR conditions and the traffic volume was running at the airport's maximum efficiency arrival rate, airspace constraints made it necessary for air traffic control to place the Runway 8L/26R arrivals at 5,000 feet MSL in order to provide proper separation from aircraft on approach to the center runway. An aircraft at 5,000 feet MSL on final approach to Runway 8L/26R will exit Class B airspace northeast or northwest of Atlanta (depending on the landing direction) when between 25 and 20 NM from the airport. This occurs because the floor of the existing Class B airspace is 6,000 feet MSL between 25 and 20 NM. At the 20 NM point, the Class B airspace floor drops to 3,500 feet MSL so arriving aircraft reenter Class B airspace at that point. With the current Class B airspace configuration, approximately 300-400 aircraft per day would leave and reenter Class B airspace when STILS operations are conducted during less than visual conditions.

It is important to note that this situation exists primarily when simultaneous triple ILS approaches are conducted during peak arrival periods in less than visual weather conditions. Atlanta arrivals typically do not exit Class B airspace when visual approaches are being conducted to Runway 8L/26R. When visual approaches are in use during triple arrival operations, the Atlanta arrival rate is 134 aircraft per hour.

The air traffic controller's options to resolve the above situation and retain all aircraft within Class B airspace are limited. Required procedures for vectoring aircraft to the final approach course and maintaining standard separation, along with the present Class B airspace design, all combine to present a very limited window of airspace for controllers to use when vectoring aircraft to intercept the ILS localizer course for Runway 8L/26R. Under these conditions, the arrival flow rate must be reduced to allow the controller to vector aircraft to this small turn-on area, maintain required separation from other arriving aircraft, and keep the aircraft within Class B airspace. For that reason, on August 30, 2006, the FAA elected to significantly reduce arrival rates when STILS operations are in use at Atlanta, during IFR conditions, to avoid having arrivals exit and reenter Class B airspace. The FAA took this step pending rulemaking action to modify the floor of the Atlanta Class B airspace area. It is acknowledged that this reduction in the arrival rate will require an expanded use of traffic management initiatives during the conditions discussed above.

The reduction of Atlanta's arrival rate during STILS approaches has a significant impact on operations at Atlanta and on the National Airspace System (NAS). As discussed earlier, actual experience with the STILS operation demonstrated that it is not possible to contain all arrivals in the Atlanta Class B airspace and maintain the most efficient arrival rate. If the changes in this rule are not implemented, Atlanta will be unable to fully utilize STILS procedures during those traffic and weather conditions when it is most needed. In order to ensure Class B airspace containment, the arrival rate must be reduced by at least 20-25% during STILS operations. This drops the airport's arrival rate from 116 aircraft per hour, to a maximum of 96 per hour. When demand exceeds capacity, traffic management initiatives, such as extended miles-in-trail restrictions and ground stops or ground delay programs, must be used to reduce the ATL arrival flow. Normally, nine periods daily exceed the 96 aircraft per hour rate. Flights that can't be accommodated in the hour they are scheduled to arrive would roll over into subsequent hours creating additional delays throughout the day. These delays can easily number in the hundreds per day. The impact of delays at Atlanta quickly ripples throughout the entire NAS and affects traffic at airports nationwide. The impact on NAS efficiency, aircraft operators, and passengers is significant. For example, carriers that utilize the hub concept not only experience delays for Atlanta arrivals and departures, but also encounter disruption of schedule integrity for their entire national operations. Since ground stop or ground delay programs and other traffic management initiatives can lead to missed connections and expiration of crew duty times, operators often must cancel some flights to maintain overall schedule integrity. Ground and in-flight delays also impact operations through increased fuel consumption and the added expense of providing overnight accommodations for affected passengers. The flying public is adversely affected by the inability to get to their destinations on time resulting in missed connections, missed appointments, and added expenses.

To correct the situation where arriving aircraft exit and reenter Class B airspace, and to maximize runway capacity, this rule lowers the existing floor of the Atlanta Class B airspace area from 6,000 feet MSL to 5,000 feet MSL within two small areas as described below. Lowering the Class B airspace floor to 5,000 feet MSL in these areas will provide controllers with a larger window to accomplish the turn-on phase and minimize the need to reduce the arrival rate during certain STILS operations.

Impact of the Class B Modification on Other Airspace Users

The FAA believes that lowering the floor of Class B airspace to 5,000 feet MSL, as described in this rule, will not adversely affect other airspace users in the Atlanta area. Presently, the airspace between 5,000 feet and 6,000 feet MSL, within the two sections concerned, includes east/west transitions for aircraft primarily departing and landing at DeKalb-Peachtree Airport, Fulton County Airport, Cobb County Airport, and Dobbins Air Reserve Base. The two airspace segments are not useful as north/south transition areas due to the adjacent Class B airspace to the south where the Class B floor is already at 4,000 feet MSL. No aerobatic practice areas or parachute drop areas are affected by the change. Very few visual flight rules (VFR) aircraft presently conduct operations between 5,000 and 5,900 feet MSL in these areas due to the high volume of Atlanta arrival traffic that uses the airspace. A recently conducted 42-day random sampling (using the Performance Data Analysis and Reporting System) found that an average of 1.21 aircraft per day transitioned through the described area. In addition, the current Atlanta VFR Flyway Planning Chart provides multiple suggested routes and altitudes to help VFR pilots avoid major traffic flows and to avoid flight within Class B airspace (if desired) while transiting the Atlanta area. The changes in this rule will not impact the existing charted VFR flyways. Two of these flyways pass beneath the airspace in question, with the suggested altitudes of “below 4,000” on the west side, and “below 3,500 feet” on the east side. The current flyways still allow transiting VFR aircraft to remain well clear of the new 5,000 foot MSL Class B airspace floor.

Outreach Efforts

The issue of aircraft exiting Class B airspace was discussed at the April 24, 2006 Precision Runway Monitor Site Implementation Team meeting. This group consists of representatives from FAA, the three major users at Hartsfield-Jackson Atlanta International Airport, the Airline Pilots Association, and the Atlanta Department of Aviation. Additionally, this issue was briefed at the May 11, 2006 Capacity Enhancement Work Group meeting. This group consists of representatives from FAA, all Atlanta air carriers, the National Business Aviation Association, and the Atlanta Department of Aviation. The FAA also issued a Letter to Airmen discussing this issue on May 15, 2006.

In conjunction with this rule, the FAA will reprint the Atlanta Sectional Aeronautical Chart and the Atlanta VFR Terminal Area Chart to reflect the modifications. The FAA will also issue an additional letter to airmen describing the Class B airspace change.

The FAA considers this final rule to be a critical action necessary to enhance the safety and efficiency of the National Airspace System. Although the FAA is taking this action by immediate adoption of the final rule, the agency intends to initiate a thorough review, in 2007, of the Atlanta Class B airspace area design. This effort will include public participation through the ad hoc user committee, informal airspace meeting, and notice of proposed rulemaking procedures.

The Rule

This action amends Title 14 Code of Federal Regulations (14 CFR) part 71 by modifying the Atlanta Class B airspace area to lower the floor of Class B airspace from 6,000 feet MSL to 5,000 feet MSL within two small areas as described below. Specifically, this action (depicted on the attached chart) modifies the description of Area F to add the two new sections wherein Class B airspace extends upward from 5,000 feet MSL. These sections are: to the east of the airport, that airspace within an area bounded on the west by the 20 NM arc of the Atlanta Very High Frequency Omnidirectional Range/Tactical Air Navigation (VORTAC), on the east by the 25 NM arc of the Atlanta VORTAC, on the south by the Atlanta VORTAC 090° radial, and on the north by a line 8 NM north of and parallel to the Runway 8L/26R localizer course; and to the west of the airport, that airspace within an area bounded on the east by the 20 NM arc of the Atlanta VORTAC, on the west by the 25 NM arc of the Atlanta VORTAC, on the south by the Atlanta VORTAC 270° radial, and on the north by a line 8 NM north of and parallel to the Runway 8L/26R localizer course. The description of Area G is amended to reflect the above change by adjusting the boundaries wherein Class B airspace extends upward from 6,000 feet MSL.

In addition, this rule makes two editorial changes to the Atlanta Class B airspace legal description to update the airport name and the coordinates of the airport reference point as listed in 14 CFR part 71. The airport name is changed from “The William B. Hartsfield Atlanta International Airport,” to “Hartsfield-Jackson Atlanta International Airport,” in order to reflect the current airport name. A minor change is made to the ARP coordinates to reflect the latest survey information. The ARP coordinates are changed from “lat. 33°38′25″ N., long. 84°25′37″ W.,” to “lat. 38°38′12″ N., long. 84°26′41″ W.” These editorial changes do not affect the charting or the operation of the Class B airspace area.

Except for the changes described above, the descriptions of all other areas in the Atlanta Class B airspace area remain as currently published.

The coordinates for this airspace docket are based on North American Datum 83. Class B airspace areas are published in paragraph 3000 of FAA Order 7400.9P dated September 1, 2006, and effective September 15, 2006, which is incorporated by reference in 14 CFR section 71.1. The Class B airspace area listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Good Cause for Immediate Adoption

Section 553(b)(3)(B) of the Administrative Procedure Act (5 U.S.C.) authorizes agencies to dispense with notice and comment procedures when the agency for “good cause” finds that those procedures are “impractical, unnecessary, or contrary to the public interest.” Under this section, an agency, upon finding good cause, may issue a final rule without seeking comment prior to the rulemaking. Based on the information presented above, the FAA has determined that prompt remedial action is necessary to enhance safety and avoid significant adverse impact on the operation of the NAS. Without immediate action, the traveling public will continue to experience substantially more flight delays. Therefore, the FAA finds that it is impractical and contrary to the public interest to delay action in order to follow the normal notice and comment procedures.

Good Cause for Early Effective Date

Under 5 U.S.C. 553(d), publication of a substantive rule shall be made not less than 30 days before its effective date, except as otherwise provided by the agency for good cause found and published with the rule. The FAA is issuing this rule with an effective date of October 26, 2006, which is less than 30 days after publication. The FAA finds good cause because this rule will enhance safety and end significant adverse impact on the operation of the NAS. As noted before, the FAA is taking additional steps to advise the public of this action, including reprinting the affected aeronautical charts and sending a letter to airmen in the Atlanta area regarding the airspace change.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND CLASS E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the FAA Order 7400.9P, Airspace Designations and Reporting Points, dated September 1, 2006, and effective September 15, 2006, is amended as follows:

By removing the current airport name and reference point, and Area F and Area G descriptions, and substituting the following:

Paragraph 3000 Class B Airspace.

* * * * *

ASO GA B Atlanta, GA [Amended]

Hartsfield-Jackson Atlanta International Airport (Primary Airport)

(Lat. 33°38′12″ N., long. 84°25′41″ W.)

* * * * *

Boundaries.

* * * * *

Area F. That airspace extending upward from 5,000 feet MSL to and including 12,500 feet MSL, bounded on the east and west by a 25-mile radius of the Atlanta VORTAC, clockwise between a line 12 miles south of and parallel to the Runway 09R/27L localizer courses and the Atlanta VORTAC 138° radial; and clockwise between the Atlanta VORTAC 218° radial and a line 12 miles south of and parallel to the Runway 09R/27L localizer courses; and that airspace west of the airport between the 20-mile radius of the Atlanta VORTAC and the 25-mile radius of the Atlanta VORTAC, from the Atlanta VORTAC 270° radial north to a line 8 miles north of and parallel to the Runway 8L/26R localizer course; and that airspace east of the airport between the 20-mile radius of the Atlanta VORTAC and the 25-mile radius of the Atlanta VORTAC from the Atlanta VORTAC 090° radial north to a line 8 miles north of and parallel to the Runway 8L/26R localizer course; excluding that airspace contained in Areas A, C, D, and E.

Area G. That airspace extending upward from 6,000 feet MSL to and including 12,500 feet MSL within a 25-mile radius of the Atlanta VORTAC north of a line 8 miles north of and parallel to the Runway 8L/26R localizer course; and south of Atlanta VORTAC in an area bounded on the north by a line 8 miles south of and parallel to the Runway 09R/27L localizer courses, on the east by the Atlanta VORTAC 138° radial, on the south by a line 12 miles south of and parallel to the Runway 09R/27L localizer courses, and on the west by the Atlanta VORTAC 218° radial; excluding that airspace clockwise between the Atlanta VORTAC 323° and 031° radials north of a line 12 miles north of and parallel to the Runway 08L/26R localizer courses, and that airspace contained in Areas A, B, C, and D.

* * * * *

Issued in Washington, DC, on October 10, 2006.
Edith V. Parish,
Manager, Airspace and Rules.

BILLING CODE 4910-13-P

[FR Doc. 06-8688 Filed 10-12-06; 8:45 am]

BILLING CODE 4910-13-C